DEPARTMENT OF HOMELAND SECURITY

Federal Emergency Management Agency

44 CFR Part 64

[Docket ID FEMA-2008-0020; Internal Agency Docket No. FEMA-8065]

Suspension of Community Eligibility

AGENCY: Federal Emergency Management Agency, DHS.

ACTION: Final rule.

SUMMARY: This rule identifies communities, where the sale of flood insurance has been authorized under the National Flood Insurance Program (NFIP), that are scheduled for suspension from the NFIP on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq. unless an appropriate public body adopts adequate floodplain management measures with effective enforcement measures. The communities listed in this document no longer meet that statutory requirement for compliance with program regulations, 44 CFR part 59. Accordingly, FEMA is suspending these communities from the NFIP on the effective date identified in the third column of the chart below. As of that date, flood insurance will no longer be available in the community. However, some of these communities may adopt and submit the required documentation of legally enforceable floodplain management measures after this rule is published but prior to the actual suspension date. These communities will not be suspended and will continue their eligibility for the sale of insurance. FEMA will publish in the Federal Register a notice withdrawing the suspension of those communities that submit the required documentation before the applicable suspension date(s).

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year on FEMA's initial flood insurance map of the community as having flood-prone areas (section 202(a) of the Flood Disaster Protection Act of 1973, 42 U.S.C. 4106(a), as amended). This prohibition against certain types of Federal assistance becomes effective for the communities listed on the date shown in the last column.

The Administrator finds that notice and public comment under 5 U.S.C. 553(b) are impracticable and unnecessary because communities listed in this final rule have been adequately notified. Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
Rhode Island:
Burrville, Town of, Providence County | 440013 | June 11, 1975, Emerg; July 2, 1979, Reg; Date of publication in Federal Register, Susp. | Mar. 2, 2009 | Date of publication in Federal Register
Cranston, City of, Providence County | 445396 | September 11, 1970, Emerg; August 27, 1971, Reg; Date of publication in Federal Register, Susp. | ......*do | Do.
Central Falls, City of, Providence County | 445394 | November 6, 1970, Emerg; May 28, 1971, Reg; Date of publication in Federal Register, Susp. | ......do | Do.
Cumberland, Town of, Providence County | 440016 | July 15, 1975, Emerg; December 16, 1980, Reg; Date of publication in Federal Register, Susp. | ......do | Do.
East Providence, City of, Providence County | 445398 | June 5, 1970, Emerg; May 18, 1973, Reg; Date of publication in Federal Register, Susp. | ......do | Do.
Foster, Town of, Providence County | 440033 | May 14, 1975, Emerg; December 4, 1985, Reg; Date of publication in Federal Register, Susp. | ......*do | Do.
Glocester, Town of, Providence County | 440034 | December 29, 1975, Emerg; August 15, 1979, Reg; Date of publication in Federal Register, Susp. | ......do | Do.
Johnston, Town of, Providence County | 440018 | August 1, 1975, Emerg; September 1, 1978, Reg; Date of publication in Federal Register, Susp. | ......do | Do.
Lincoln, Town of, Providence County | 445400 | May 5, 1972, Emerg; November 30, 1973, Reg; Date of publication in Federal Register, Susp. | ......do | Do.
North Providence, Town of, Providence County | 440020 | October 6, 1972, Emerg; December 15, 1977, Reg; Date of publication in Federal Register, Susp. | ......do | Do.
North Smithfield, Town of, Providence County | 440021 | May 6, 1975, Emerg; August 1, 1978, Reg; Date of publication in Federal Register, Susp. | ......do | Do.
Pawtucket, City of, Providence County | 440022 | January 15, 1971, Emerg; July 16, 1971, Reg; Date of publication in Federal Register, Susp. | ......do | Do.
Providence, City of, Providence County | 445406 | September 11, 1970, Emerg; December 11, 1970, Reg; Date of publication in Federal Register, Susp. | ......do | Do.
Scituate, Town of, Providence County | 440024 | January 13, 1975, Emerg; January 2, 1981, Reg; Date of publication in Federal Register, Susp. | ......do | Do.
Smithfield, Town of, Providence County | 440025 | December 17, 1971, Emerg; March 1, 1977, Reg; Date of publication in Federal Register, Susp. | ......do | Do.
Region III
Virginia:
Caroline County, Unincorporated Areas | 510249 | June 3, 1974, Emerg; August 15, 1989, Reg; Date of publication in Federal Register, Susp. | ......do | Do.
Region IV
North Carolina:
Belmont, City of, Gaston County | 370320 | March 26, 1976, Emerg; November 1, 1979, Reg; Date of publication in Federal Register, Susp. | ......do | Do.
Charlotte, City of, Mecklenburg County | 370159 | April 12, 1973, Emerg; August 15, 1978, Reg; Date of publication in Federal Register, Susp. | ......do | Do.
Cornelius, Town of, Mecklenburg County | 370498 | —, Emerg; September 30, 1997, Reg; Date of publication in Federal Register, Susp. | ......do | Do.
Davidson, Town of, Mecklenburg County | 370503 | —, Emerg; October 16, 1997, Reg; Date of publication in Federal Register, Susp. | ......do | Do.
Gaston County, Unincorporated Areas | 370099 | April 16, 1976, Emerg; May 1, 1980, Reg; Date of publication in Federal Register, Susp. | ......do | Do.
Huntersville, Town of, Mecklenburg County | 370478 | January 11, 1995, Emerg; February 4, 2004, Reg; Date of publication in Federal Register, Susp. | ......do | Do.
Mathews, Town of, Mecklenburg County | 370310 | January 11, 1995, Emerg; February 4, 2004, Reg; Date of publication in Federal Register, Susp. | ......do | Do.
Mecklenburg County, Unincorporated Areas | 370158 | May 17, 1973, Emerg; June 1, 1981, Reg; Date of publication in Federal Register, Susp. | ......do | Do.
Mint Hill, Town of, Mecklenburg County | 370539 | —, Emerg; December 21, 2007, Reg; Date of publication in Federal Register, Susp. | ......do | Do.
North Wilkesboro, Town of, Wilkes County | 370257 | December 28, 1973, Emerg; February 15, 1978, Reg; Date of publication in Federal Register, Susp. | ......do | Do.
Pineville, Town of, Mecklenburg County | 370160 | May 6, 1975, Emerg; March 18, 1987, Reg; Date of publication in Federal Register, Susp. | ......do | Do.
Stallings, Town of, Union County | 370472 | —, Emerg; April 5, 1994, Reg; Date of publication in Federal Register, Susp. | ......do | Do.
Union County, Unincorporated Areas | 370234 | August 9, 1983, Emerg; July 18, 1983, Reg; Date of publication in Federal Register, Susp. | ......do | Do.
Wilkes County, Unincorporated Areas | 370256 | May 28, 1976, Emerg; March 31, 2003, Reg; Date of publication in Federal Register, Susp. | ......do | Do.
Wilkesboro, Town of, Wilkes County | 370259 | April 15, 1974, Emerg; June 1, 1987, Reg; Date of publication in Federal Register, Susp. | ......do | Do.
Region V
Wisconsin:
Door County, Unincorporated Areas | 550109 | April 30, 1973, Emerg; April 3, 1978, Reg; Date of publication in Federal Register, Susp. | ......do | Do.
Ephraim, Village of, Door County | 550611 | December 26, 1986, Emerg; January 15, 1998, Reg; Date of publication in Federal Register, Susp. | ......do | Do.
Sturgeon Bay, City of, Door County | 550111 | May 13, 1975, Emerg; August 5, 1991, Reg; Date of publication in Federal Register, Susp. | ......do | Do.
Region VI
Arkansas:
Arkansas County, Unincorporated Areas | 050418 | April 5, 1989, Emerg; December 1, 1989, Reg; Date of publication in Federal Register, Susp. | ......do | Do.
Dewitt, City of, Arkansas County | 050001 | June 18, 1975, Emerg; July 1, 1987, Reg; Date of publication in Federal Register, Susp. | ......do | Do.
Gillett, City of, Arkansas County | 050325 | May 23, 1975, Emerg; January 17, 1986, Reg; Date of publication in Federal Register, Susp. | ......do | Do.
Humphrey, City of, Arkansas County | 050108 | July 31, 1975, Emerg; November 1, 1985, Reg; Date of publication in Federal Register, Susp. | ......do | Do.
St. Charles, Town of, Arkansas County. | 050285 | August 26, 1975, Emerg; October 12, 1982, Reg; Date of publication in Federal Register, Susp. | ......do | Do.
Stuttgart, City of, Arkansas County | 050002 | April 11, 1975, Emerg; June 1, 1988, Reg; Date of publication in Federal Register, Susp. | ......do | Do.
Region VII
Iowa:
Bevington, City, Warren County | 190273 | November 30, 1976, Emerg; May 1, 1987, Reg; Date of publication in Federal Register, Susp. | ......do | Do.
Cumming, City of, Warren County | 190946 | —, Emerg; January 24, 2000, Reg; Date of publication in Federal Register, Susp. | ......do | Do.
Indianola, City of, Warren County | 190275 | June 1, 1977, Emerg; July 31, 1979, Reg; Date of publication in Federal Register, Susp. | ......do | Do.
Lacona, City of, Warren County | 190752 | December 6, 1976, Emerg; July 1, 1987, Reg; Date of publication in Federal Register, Susp. | ......do | Do.
Martensdale, City of, Warren County. | 190524 | April 28, 1994, Emerg; September 1, 1996, Reg; Date of publication in Federal Register, Susp. | ......do | Do.
Norwalk, City of, Warren County | 190631 | March 3, 1993, Emerg; November 20, 1998, Reg; Date of publication in Federal Register, Susp. | ......do | Do.
Warren County, Unincorporated Areas | 190912 | November 19, 1990, Emerg; July 1, 1991, Reg; Date of publication in Federal Register, Susp. | ......do | Do.
Nebraska:
Beaver City, City, Furnas County | 310348 | January 19, 1978, Emerg; August 1, 1986, Reg; Date of publication in Federal Register, Susp. | ......do | Do.
Cambridge, City of, Furnas County | 310087 | May 24, 1973, Emerg; March 28, 1980, Reg; Date of publication in Federal Register, Susp. | ......do | Do.
Wilsonville, Village of, Furnas County | 310335 | May 23, 1994, Emerg; November 7, 2001, Reg; Date of publication in Federal Register, Susp. | ......do | Do.
Region VIII
Wyoming:
Washakie County, Unincorporated Areas | 560089 | October 30, 2000, Emerg;—, Reg; Date of publication in Federal Register, Susp. | ......do | Do.
Worland, City of, Washakie County | 560056 | April 30, 1975, Emerg; September 15, 1978, Reg; Date of publication in Federal Register, Susp. | ......do | Do.
* do = Ditto.
Code for reading third column: Emerg.—Emergency; Reg.—Regular; Susp.—Suspension.

Michael K. Buckley,
Acting Assistant Administrator, Mitigation Directorate, Department of Homeland Security, Federal Emergency Management Agency.

[FR Doc. E9-6667 Filed 3-24-09; 8:45 am]

BILLING CODE 9110-12-P